NUCLEAR REGULATORY COMMISSION

[NRC-2010-0255]

Office of New Reactors; Proposed Revision 1 to Standard Review Plan, Section 13.5.1.1 on Administrative Procedures—General; Correction

AGENCY: Nuclear Regulatory Commission.

ACTION: Solicitation of public comment; correction.

SUMMARY: This document corrects a notice appearing in the Federal Register on February 9, 2011, that announced the solicitation for comments of the proposed Revision 1 to Standard Review Plan, Section 13.5.1.1 on Administrative Procedures—General. This action is necessary to correct the Agencywide Documents Access and Management System (ADAMS) accession number for the redline document mentioned in the last line under the SUMMARY section.

FOR FURTHER INFORMATION CONTACT: Mr. William F. Burton, Chief, Rulemaking and Guidance Development Branch, Division of New Reactor Licensing, Office of New Reactors, U.S. Nuclear Regulatory Commission, Washington, DC 20555-0001; telephone at 301-415-6332 or e-mail at william.burton@nrc.gov.

SUPPLEMENTARY INFORMATION: On February 9, 2011, at 76 FR 7235, NRC published a document announcing the availability of a proposed Revision 1 to Standard Review Plan for public comment. In that publication, on page 7235 second Colum, under the section titled SUMMARY first paragraph, replace the last two sentences with “Since then, the NRC staff has made substantial changes to that guidance and it is being re-noticed for comments. A redline document comparing the two versions can be found under ADAMS Accession No. ML110100212.”

Dated at Rockville, Maryland this 11th day of February 2011.
For the Nuclear Regulatory Commission.
William F. Burton,
Chief, Rulemaking and Guidance Development Branch, Division of New Reactor Licensing, Office of New Reactor.

[FR Doc. 2011-3725 Filed 2-17-11; 8:45 am]

BILLING CODE 7590-01-P